COMMITTEE FOR PURCHASE FROM PEOPLE WHO ARE BLIND OR SEVERELY DISABLED

Procurement List; Additions and Deletions

AGENCY: Committee for Purchase from People Who Are Blind or Severely Disabled.

ACTION: Additions to and deletions from the Procurement List.

SUMMARY: This action adds product(s) and service(s) to the Procurement List that will be furnished by nonprofit agencies employing persons who are blind or have other severe disabilities, and deletes product(s) and service(s) from the Procurement List previously furnished by such agencies.

DATES: Date added to and deleted from the Procurement List: February 01, 2026.

ADDRESSES: Committee for Purchase from People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION:

Addition

On November 28, 2025, the Committee for Purchase From People Who Are Blind or Severely Disabled (operating as the U.S. AbilityOne Commission) published an initial notice of proposed additions to the Procurement List. (90 FR 54639). This final notice is published pursuant to 41 U.S.C. 8503(a)(2) and 41 CFR 51-2.3. The Committee has determined that the product listed below is suitable for procurement by the Federal Government and has added this product to the Procurement List as a mandatory purchase for Federal entities. In accordance with 41 CFR 51-5.2, the Committee has authorized the qualified nonprofit agencies described with the product as the authorized source of supply.

After consideration of the material presented to it concerning capability of qualified nonprofit agencies to provide the product and impact of the additions on the current or most recent contractors, the Committee has determined that the product listed below is suitable for procurement by the Federal Government under 41 U.S.C. 8501-8506 and 41 CFR 51-2.4.

Regulatory Flexibility Act Certification

End of Certification

1. The action will not result in additional reporting, recordkeeping or other compliance requirements for small entities.

2. The action may result in authorizing small entities to furnish the product to the Government.

3. There are no known regulatory alternatives which would accomplish the objectives of the Javits-Wagner-O'Day Act (41 U.S.C. 8501-8506) in connection with the product deleted from the Procurement List.

End of Certification

Accordingly, the following product is added to the Procurement List:

NSN(s)—Product Name(s): 810012201N—Package Filler, Cushioning, Bubble, Roll, Perforated, 12″ x 175′

Authorized Source of Supply: Alphapointe, Kansas City, MO

Mandatory For: Total Government Requirement

Contracting Activity: GENERAL SERVICES ADMINISTRATION, GSA/FAS ADMIN SVCS ACQUISITION BR(2

On November 28, 2025, the Committee for Purchase From People Who Are Blind or Severely Disabled (operating as the U.S. AbilityOne Commission) published an initial notice of proposed additions to the Procurement List. (90 FR 54639). This final notice is published pursuant to 41 U.S.C. 8503(a)(2) and 41 CFR 51-2.3. The Committee has determined that the product listed below is suitable for procurement by the Federal Government and has added this product to the Procurement List. In accordance with 41 CFR 51-5.2, the Committee has authorized the qualified nonprofit agencies described with the product as the authorized source of supply. Additionally, in accordance with 41 CFR 51-2.4, the Committee considered relevant information from the contracting activity that this product requirement is not applicable to other Federal entities and has granted the activity's requested preference for purchase or distribution. This product is not available through the Commission's Commercial Distribution Program, and other Federal entities wishing to purchase this product must contact the contracting activity listed directly for information on purchase availability.

After consideration of the material presented to it concerning capability of qualified nonprofit agencies to provide the product and impact of the additions on the current or most recent contractors, the Committee has determined that the product listed below is suitable for procurement by the Federal Government under 41 U.S.C. 8501-8506 and 41 CFR 51-2.4.

Regulatory Flexibility Act Certification

End of Certification

1. The action will not result in additional reporting, recordkeeping or other compliance requirements for small entities.

2. The action may result in authorizing small entities to furnish the product to the Government.

3. There are no known regulatory alternatives which would accomplish the objectives of the Javits-Wagner-O'Day Act (41 U.S.C. 8501-8506) in connection with the product deleted from the Procurement List.

End of Certification

1095-01-598-4343—Combat Knife, Mini, Out the Front (OTF)

Authorized Source of Supply: DePaul Industries, Portland, OR

Mandatory For: DEPT OF DEFENSE

Contracting Activity: DEPT OF DEFENSE, DLA LAND AND MARITIME

On November 28, 2025, the Committee for Purchase From People Who Are Blind or Severely Disabled (operating as the U.S. AbilityOne Commission) published an initial notice of proposed additions to the Procurement List. (90 FR 54639). The Committee determined that the service listed below is suitable for procurement by the Federal Government and has added this service to the Procurement List as a mandatory purchase for the contracting activity listed. In accordance with 41 CFR 51-5.3(b), the mandatory purchase requirement is limited to the contracting activity at the location listed, and in accordance with 41 CFR 51-5.2, the Committee has authorized nonprofit agency listed as the authorized source of supply.

After consideration of the material presented to it concerning capability of qualified nonprofit agencies to provide the service and impact of the additions on the current or most recent contractors, the Committee has determined that the service listed below is suitable for procurement by the Federal Government under 41 U.S.C. 8501-8506 and 41 CFR 51-2.4.

Regulatory Flexibility Act Certification

End of Certification

1. The action will not result in additional reporting, recordkeeping or other compliance requirements for small entities.

2. The action may result in authorizing small entities to furnish the service to the Government.

3. There are no known regulatory alternatives which would accomplish the objectives of the Javits-Wagner-O'Day Act (41 U.S.C. 8501-8506) in connection with the service deleted from the Procurement List.

End of Certification

Service Type:

Mandatory for: US Army, Directorate of Training Sustainment, Fort Benning, Fort Benning, GA, 6650 Meloy Drive, Suite 250, Building 6, Fort Benning, GA

Authorized Source of Supply: Brevard Achievement Center, Inc., Rockledge, FL

Contracting Activity: DEPT OF DEFENSE, W6QM MICC-FT MOORE

Deletion

On November 28, 2025, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

8415-01-521-8806—Cover, Advanced Combat Helmet, with Comm Flap, Universal Camouflage, S/M

8415-01-521-8808—Cover, Advanced Combat Helmet, with Comm Flap, Universal Camouflage, L/XL

8415-01-521-8357—Cover, Advanced Combat Helmet, No Comm Flap, Universal Camouflage, S/M

8415-01-521-8360—Cover, Advanced Combat Helmet, No Comm Flap, Universal Camouflage, L/XL

8415-01-591-5907—Cover, Enhanced Combat Helmet, Universal Camouflage Pattern, S/M

8415-01-591-5918—Cover, Enhanced Combat Helmet, Universal Camouflage Pattern, L/XL

8415-01-591-5946—Cover, Enhanced Combat Helmet, Universal Camouflage Pattern, XXL

8415-01-092-7514—Cover, PASGT Helmet, Woodland Camouflage, XS/S

8415-01-092-7515—Cover, PASGT Helmet, Woodland Camouflage, M/L

8415-01-303-8945—Cover, PASGT Helmet, Woodland Camouflage, X-LG

Authorized Source of Supply: Alabama Industries for the Blind, Talladega, AL

Authorized Source of Supply: Lions Services, Inc., Charlotte, NC

Authorized Source of Supply: Industries of the Blind, Inc, Greensboro, NC

Authorized Source of Supply: Lions Volunteer Blind Industries, Inc., Morristown, TN

Authorized Source of Supply: The Lighthouse for the Blind in New Orleans, Inc., New Orleans, LA

Authorized Source of Supply: Blind Industries & Services of Maryland, Baltimore, MD

Authorized Source of Supply: Mississippi Industries for the Blind (Inc), Jackson, MS

Authorized Source of Supply: LC Industries, Inc., Durham, NC

Authorized Source of Supply: Winston-Salem Industries for the Blind, Inc, Winston-Salem, NC

Authorized Source of Supply: Mount Rogers Community Services Board, Wytheville, VA

Mandatory For: DEPARTMENT OF DEFENSE

Contracting Activity: DEFENSE LOGISTICS AGENCY, DLA TROOP SUPPORT

Contracting Activity: DEPT OF THE ARMY, W6QK ACC-APG NATICK

Services(s)

Service Type:

Mandatory for: GSA PBS Region 10, Gus Solomon Courthouse, Portland, OR, 620 SW Main Street, OR0023ZZ, Portland, OR

Designated Source of Supply: Relay Resources, Portland, OR

Contracting Activity: GENERAL SERVICES ADMINISTRATION, PBS R10

Service Type: Grounds Maintenance, Guard Services, Alarm Monitoring

Mandatory for: Fort Sam Houston and Camp Bullis Reserve Centers: Building 1610 (2010 Harry Wurzbach Highway), Robert Gray Army Airfield (RGAAF): III Corps and Fort Hood Army Airfield and U.S. Army Reserve Center: 1920 Harry Wurzbach Highway

Contracting Activity: DEPT OF THE ARMY, W40M RHCO-ATLANTIC USAHCA

Service Type: Janitorial/Custodial

Mandatory for: US Office of Personnel Management, Federal Executive Institute, Charlottesville, VA

Contracting Activity: OFFICE OF PERSONNEL MANAGEMENT, OPM DC CENTRAL OFFICE CONTRACTING

Service Type: Document Management

Mandatory for: USDA Forest Service, Pacific Northwest Region, Region 6, & the Pacific Northwest Research Station,1220 SW 3rd Avenue, Portland, OR

Contracting Activity: DEPT OF AGRICULTURE, FOREST SERVICE, NORTHWEST OREGON CONTRACTING AREA

Michael R. Jurkowski,
Director, Business Operations.

[FR Doc. 2025-24191 Filed 12-31-25; 8:45 am]

BILLING CODE 6353-01-P